POSTAL REGULATORY COMMISSION

39 CFR Part 3020

[Docket No. RM2007-1; Order No. 43]

Administrative Practice and Procedure, Postal Service; Corrections

AGENCY: Postal Regulatory Commission.

ACTION: Correcting amendments.

SUMMARY: The Postal Regulatory Commission published a document in the Federal Register on November 9, 2007 (72 FR 63662), adopting new rules. That document inadvertently misidentified, in section 3020.91, the length of time for the Postal Service to file a notice of certain types of corrections to product descriptions in the Mail Classification Schedule and mischaracterized, in section 3020.93, the scope of a product list. This document corrects the final regulations by revising these sections.

DATES: Effective on December 10, 2007.

FOR FURTHER INFORMATION CONTACT: Stephen L. Sharfman, General Counsel, 202-789-6820 and stephen.sharfman@prc.gov.

SUPPLEMENTARY INFORMATION: This document summarizes the Commission's Notice of Errata issued on January 24, 2008, addressing two errors in final regulations. Review of regulations regarding Docket No. RM2007-1 (Order No. 43) indicates a need for revision of two sections to conform to the Commission's Order No. 43, October 29, 2007, which adopted those regulations.

The first affects 39 CFR 3020.91. As published, this section states that the Postal Service is to file a notice of a correction in product lists no later than 30 days prior to the effective date of the proposed change. The correct timeframe for filing such notices is no later than 15 days.

The second revision affects 39 CFR 3020.93. As published, this section includes the phrase “market dominant” before “product description”. The phrase “market dominant” should not have been used as a qualifier.

As published, the final regulations contain errors which may prove to be misleading and need to be clarified.

List of Subjects in 39 CFR Part 3020

Administrative practice and procedure; Postal Service.

Accordingly, 39 CFR part 3020 is corrected by making the following correcting amendments:

PART 3020—PRODUCT LISTS

1. The authority citation for part 3020 continues to read as follows:

Authority: 39 U.S.C. 503; 3622; 3631; 3642; 3682.

2. Revise § 3020.91 to read as follows:

§ 3020.91 Modification.

The Postal Service shall submit corrections to product descriptions in the Mail Classification Schedule that do not constitute a proposal to modify the market dominant product list or the competitive product list as defined in § 3020.30 by filing notice of the proposed change with the Commission no later than 15 days prior to the effective date of the proposed change.

3. Revise paragraph (b) of § 3020.93 to read as follows:

§ 3020.93 Implementation.

* * * * *

(b) The Commission's finding that changes to the product descriptions are not inconsistent with 39 U.S.C. 3642 is provisional and subject to subsequent review.

Steven W. Williams,
Secretary.

[FR Doc. E8-1890 Filed 2-1-08; 8:45 am]

BILLING CODE 7710-FW-P